DEPARTMENT OF ENERGY

Federal Energy Regulatory Commission

[Docket No. EC04-55-000, et al.]

American Transmission Company LLC, et al.; Electric Rate and Corporate Filings

January 22, 2004.

The following filings have been made with the Commission. The filings are listed in ascending order within each docket classification.

1. American Transmission Company LLC

[Docket No. EC04-55-000]

Take notice that on January 20, 2004, American Transmission Company LLC (ATCLLC) tendered for filing an application under section 203 of the Federal Power Act for authority to acquire transmission facilities from Upper Peninsula Public Power Agency.

Comment Date: February 10, 2004.

2. FPL Energy Marcus Hook, L.P. Complainant v. PJM Interconnection, L.L.C. Respondent

[Docket No. EL04-57-000]

Take notice that on January 20, 2004, FPL Energy Marcus Hook, L.P. (FPLE Marcus Hook) filed a Complaint against PJM Interconnection, L.L.C. (PJM) regarding charges for interconnection under an Interconnection Service Agreement dated January 20, 2002.

FPLE Marcus Hook states that a copy of the Complaint was served upon PJM and upon Conectiv.

Comment Date: February 9,2004.

3. MxEnergy Inc.

[Docket No. ER02-737-001]

Take notice that on January 15, 2004, MxEnergy Inc. tendered for filing a Notice of Withdrawal of a compliance filing made on December 17, 2003 in Docket No. ER02-737-001.

Comment Date: January 30, 2004.

4. UAE Mecklenburg Cogeneration LP

[Docket No. ER02-1902-001]

Take notice that on December 17, 2003, UAE Mecklenburg Cogeneration LP, submitted a compliance filing in response to the Commission's November 17, 2003 Order Amending Market-based Rate Tariffs and Authorizations, in Docket Nos. EL01-118-000 and 001.

Comment Date: January 30, 2004.

5. Nevada Power Company

[Docket No. ER02-1913-004]

Take notice that on January 15, 2004, Nevada Power Company (Nevada Power) submitted a compliance filing pursuant to the Commission's Order issued in Docket Nos. ER02-1913-002 and 003 making the required change to the Interconnection and Operation Agreement between Nevada Power and GenWest, LLC.

Comment Date: February 5, 2004.

6. Public Service Company of Colorado

[Docket No. ER03-971-002]

Take notice that on January 5, 2004, Public Service Company of Colorado submitted for filing signed copies of Appendices A and D to the Settlement Agreement between Public Service Company and Yampa Valley Electric Association Inc filed on December 30, 2003.

Comment Date: February 2, 2004.

7. AmerenEnergy Resources Generating Company

[Docket No. ER04-53-003]

Take notice that on January 15, 2004, AmerenEnergy Resources Generating Company (AERG) submitted for filing a supplement to its Notice of Succession previously filed in Docket No. ER04-53 on October 17, 2003.

Comment Date: February 5, 2004.

8. Forest Energy Partners, LLC

[Docket No. ER04-197-001]

Take notice that on January 5, 2004, Forest Energy Partners LLC, submitted for filing a revised Rate Schedule FERC No. 1 and Petition for Order Accepting Market-based Rate Schedule, and granting waivers and blanket approvals.

Comment Date: February 2, 2004.

9. California Independent System Operator Corporation

[Docket No. ER04-370-001]

Take notice that on January 5, 2004, the California Independent System Operator Corporation (ISO) submitted revisions to the informational filing made on December 31, 2003 to the updated Transmission Access Charge Rates effective January 1, 2004.

The ISO states that this filing has been served upon the Public Utilities Commission of the State of California, the California Energy Commission, the California Electricity Oversight Board, the Participating Transmission Owners, and upon all parties with effective Scheduling Coordinator Service Agreements under the ISO Tariff and in addition, the ISO is posting the filing on the ISO Home Page.

Comment Date: February 2, 2004.

10. NRG Northern Ohio Generating LLC

[Docket No. ER04-406-000]

Take notice that on January 14, 2004, NRG Northern Ohio Generating LLC (NRG Northern Ohio) submitted pursuant to Section 35.15 of the Federal Energy Regulatory Commission's regulations, 18 CFR 35.15, a notice canceling NRG Northern Ohio's FERC Rate Schedule No. 1 and Service Agreement No. 1 thereunder. NRG Northern Ohio requests that the cancellation be made effective January 14, 2004.

Comment Date: February 4, 2004.

11. Wisconsin Electric Power Company

[Docket No. ER04- 407-000]

Take notice that on January 15, 2004, Wisconsin Electric Power Company (Wisconsin Electric) tendered for filing the inputs to the formula rates in Exhibit No. 4 of two Generation-Transmission Must Run Agreements with American Transmission Company, LLC (ATLLLC). Wisconsin Electric states that the inputs are reflected in an updated Exhibit No. 4.4 for Wisconsin Electric's Oak Creek Power Plant and Presque Isle and Upper Peninsula of Michigan Hydroelectric Plants. Wisconsin Electric further states that by the terms of the Must Run Agreements, the inputs to the formula rate tendered for filing herein took effect on January 1, 2004. As such, Wisconsin Electric requests that the updates to Exhibit Nos. 4.4 of the Must Run Agreements be made effective on January 1, 2004.

Wisconsin Electric states that copies of this filing have been provided to ATCLLC, the Michigan Public Service Commission and the Public Service Commission of Wisconsin.

Comment Date: February 5, 2004.

12. MDU Resources Group, Inc.

[Docket No. ES04-11-000]

Take notice that on January 16, 2004, the MDU Resources Group, Inc. (MDU) submitted an application pursuant to Section 204 of the Federal Power Act seeking authorization for the issuance of an additional 1.5 million shares of MDU's common stock to be issued from time to time in connection with MDU's 1998 Option Award Program.

MDU also requests a waiver from the Commission's competitive bidding and negotiated placement requirements at 18 CFR 34.2.

Comment Date: February 5, 2004.

13, Idaho County Light & Power Cooperative Association, Inc.

[Docket No. ES04-12-000]

Take notice that on January 16, 2004, the Idaho County Light & Power Cooperative Association, Inc. (Idaho County) submitted an application pursuant to Section 204 of the Federal Power Act to renew authorization to make long-term borrowing in an amount not to exceed $1.5 million under a loan agreement with the National Rural Utilities Cooperative Finance Corporation.

Idaho County also requests a waiver from the Commission's competitive bidding and negotiated placement requirements at 18 CFR 34.2.

Comment Date: February 12, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-142 Filed 1-28-04; 8:45 am]

BILLING CODE 6717-01-P